DEPARTMENT OF COMMERCE

United States Patent and Trademark Office

[Docket No. 010726192-1192-01]

RIN 0651-AB39

Notice of Electronic Products Available From the Information Products Division, Chief Information Officer, U.S. Patent and Trademark Office

AGENCY: United States Patent and Trademark Office, Commerce.

ACTION: Notice.

SUMMARY: The USPTO publishes a list of the electronic patent and trademark information products currently available from the Information Products Division, Office of the Chief Information Officer, U.S. Patent and Trademark Office. The products are made available in order to disseminate information on patents and trademarks to the public.

ADDRESSES: The products listed below can be ordered by contacting the Information Products Division, U.S. Patent and Trademark Office, Crystal Park 3, Suite 441, Washington, DC 20231. The 2001 USPTO Products and Services Catalog is available on the USPTO Web site at: http://www.uspto.gov/web/offices/ac/ido/oeip/catalog/index.html. The site provides more in-depth information about the individual products.

FOR FURTHER INFORMATION CONTACT: Information Products Division at 703-306-2600.

SUPPLEMENTARY INFORMATION: A list of the electronic patent and trademark information products currently available is given below. Included with the product title is the medium and price.

Product | Media | Price
Cassis Series of Optical Disc Products—Electronic Products Branch
Cassis Sampler | CD-ROM | Free
Patents and Trademarks ASSIGN | DVD-ROM | $300/yr
Patents ASSIST | DVD-ROM | $200/yr
Patents BIB | DVD-ROM | $300/yr
Patents CLASS | DVD-ROM | $300/yr
Trademarks ASSIST | DVD-ROM | $50
Trademarks BIB | DVD-ROM | $500/yr
USAApp | DVD-ROM | $2400/yr
USAMark | CD-ROM | $200/yr
USAMark Back File | CD-ROM | $1180
USAPat | DVD-ROM | $2400/yr
USAPat Back File | DVD-ROM | $20,000
Patent and Trademark Data—Data Dissemination Branch
Patent Bibliographic Data/SGML (Text Only) | Online (FTP) | Free
Patent Bibliographic/APS (Retrospective) | 4 MM | $1500/yr
Patent Full-Text/APS (Retrospective) | DLT Cartridge | $28200/yr
Patent Grant Data/SGML (Text Only) | Online (FTP) | $8800/yr
Patent Grant Data/SGML (Text Only) | DLT Cartridge | $13300/yr
Patent Grant Data/SGML | DLT Cartridge | $25150/yr
Patent Application Data/XML (Text Only) | Online (FTP) | $7140/for 2001
Patent Application Data/XML (Text Only) | DLT Cartridge | $10752/for 2001
Patent Application Data/XML | DLT Cartridge | $20328/for 2001
Patent Image | 3480 Cartridge Tape | $16550/yr
Patent Image | DLT Cartridge | $12400/yr
Patent Image/TIFF | DLT Cartridge | $12400/yr
Patent Image (Retrospective) | 3480 Cartridge Tape | $373000
Patent Image/TIFF (Retrospective) | DLT Cartridge | $215350
Master Classification File (Patent Sequence) | Online (FTP) | $930/yr
Master Classification File (Patent Sequence) | DLT Cartridge | $1260/yr
Master Classification File (Class Sequence) | Online (FTP) | $930/yr
Master Classification File (Class Sequence) | DLT Cartridge | $1260/yr
Index to U.S. Patent Class | Online (FTP) | $312/yr
Index to U.S. Patent Class | DLT Cartridge | $312/yr
Manual of Classification | Online (FTP) | $312/yr
Manual of Classification | DLT Cartridge | $312/yr
Patent Assignment | DLT Cartridge | $1190/yr
Trademark Annual ASSIGN | Online (FTP) | $310/yr
Trademark Annual ASSIGN | DLT Cartridge | $415/yr
Trademark Annual DEAD | Online (FTP) | $1090/yr
Trademark Annual DEAD | DLT Cartridge | $1350/yr
Trademark Annual LIVE | Online (FTP) | $1190/yr
Trademark Annual LIVE | DLT Cartridge | $1450/yr
Trademark Annual TTAB | Online (FTP) | $210/yr
Trademark Annual TTAB | DLT Cartridge | $260/yr
Trademark Monthly Status | Online (FTP) | $624/yr
Trademark Monthly Status | DLT Cartridge | $1860/yr
Trademark Image Cropped Registrations | 3480 Cartridge Tape | $12950/yr
Trademark Image Cropped Registrations | DLT Cartridge | $6530/yr
Trademark Image Cropped Registrations (Retro) | 3480 Cartridge Tape | $620/yr
Trademark Image Cropped Registrations (Retro) | DLT Cartridge | $985/yr
Trademark Image Cropped Applications | 3480 Cartridge Tape | $6475/yr
Trademark Image Cropped Applications | DLT Cartridge | $4715/yr
Trademark Image Cropped Applications (Retro) | 3480 Cartridge Tape | $620/yr
Trademark Image Cropped Applications (Retro) | DLT Cartridge | $985/yr
Trademark Weekly Text | Online (FTP) | $2950/yr
Trademark Weekly Text | DLT Cartridge | $6370/yr
Trademark Application 24 Hour Box | Online (FTP) | $13000/yr
Patent and Trademark Statistical Reports—Technology Assessment and Forecast Branch
Patenting Trends in the United States, 1999 | Paper | $50
Patenting Trends in the United States, 1999 | CD-ROM | $25
Patenting Trends in the United States, 1999—State/ Country Report | Paper | $50
Patenting Trends in the United States, 1999—State/ Country Report | CD-ROM | $25
U.S. Colleges and Universities—Utility Patent Grants, 1999 | Paper | $50
U.S. Colleges and Universities—Utility Patent Grants, 1999 | Diskette (2) | $25
Activity Index Report, 1999 | Paper | $90
Activity Index Report, 1999 | CD-ROM | $25
Activity Index Report, Corporate Patenting 1999 | Paper | $90
Activity Index Report, Corporate Patenting 1999 | CD-ROM | $25
Activity Index Report, Utility Patent Applications 1999 | Paper | $50
Activity Index Report, Utility Patent Applications 1999 | CD-ROM | $25
Activity Index Report, Corporate Utility Patent Applications 1999 | Paper | $50
Activity Index Report, Corporate Utility Patent Applications 1999 | CD-ROM | $25
Buttons To Biotech, U.S. Patenting by Women, 1977 to 1996—updated through 1998 | Paper | $20
Selected Technologies Reports (variable lengths) | Paper | $20/report
General Statistical Reports—Issue Dates and Patent Numbers Since 1836 | Paper | $5
General Statistical Reports—Utility Patent Applications by Country of Origin Since 1965 | Paper | $5
General Statistical Reports—Patent Counts by Class by Year Report | Paper | $5/report
General Statistical Reports—Utility Patent Counts by State, County, and Metro Area | Paper | $5
Concordance Between the Standard Industrial Classification System and the U.S. Patent Classification System (1999) | Paper | $80
Concordance Between the Standard Industrial Classification System and the U.S. Patent Classification System (1999) | Diskette (5MB compressed) | $25
Digital Media Having Information Contained in the TAF Database (Prices vary depending on the information wanted. Contact the TAF Branch office for prices and a description of what is available.) |  |
Inventor Mailing Labels | Paper | $50 plus $.35 per page of paper output
Inventor Mailing Labels | Self-stick labels | $50 plus $.70 per page of label stock output
Inventor Mailing Labels | Diskette (uncompressed electronic file output) | $50 plus $25/diskette
Custom Reports (Prices for custom reports vary according to the size and complexity of the requested report. Generally, report prices will be $50 per request plus $10 for every 30 single-sided report pages and $25 per diskette of uncompressed electronic file output. Custom report availability is subject to the availability of TAF resources.) |  |
Subclass Listings | Paper | $3/requested subclass on paper
Subclass Listings | Diskette | $3/requested subclass plus additional $25

This notice is issued under the authority of 35 U.S.C. 41(d), 35 U.S.C. 41(g) and 15 U.S.C. 1113.

Dated: August 20, 2001.
Nicholas P. Godici,
Acting Under Secretary of Commerce for Intellectual Property and Acting Director of the United States Patent and Trademark Office.

[FR Doc. 01-21481 Filed 8-23-01; 8:45 am]

BILLING CODE 3510-16-P